NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before April 19, 2002. Once the appraisal of the records is completed, NARA will send a copy of the schedule. NARA staff usually prepare appraisal memorandums that contain additional information concerning the records covered by a proposed schedule. These, too, may be requested and will be provided once the appraisal is completed. Requesters will be given 30 days to submit comments.

ADDRESSES: To request a copy of any records schedule identified in this notice, write to the Life Cycle Management Division (NWML), National Archives and Records Administration (NARA), 8601 Adelphi Road, College Park, MD 20740-6001. Requests also may be transmitted by FAX to 301-713-6852 or by e-mail to records.mgt@nara.gov. Requesters must cite the control number, which appears in parentheses after the name of the agency which submitted the schedule, and must provide a mailing address. Those who desire appraisal reports should so indicate in their request.

FOR FURTHER INFORMATION CONTACT: Marie Allen, Director, Life Cycle Management Division (NWML), National Archives and Records Administration, 8601 Adelphi Road, College Park, MD 20740-6001. Telephone: (301)713-7110. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of the Air Force, Agency-wide (N1-AFU-01-4, 32 items, 32 temporary items). Records relating to inventory control of medical supplies and equipment. Records include an electronic information system, source documents used for input into the system, records of transactions, and outputs, including financial reports, equipment management reports, and other reports. Also included are electronic copies of records created using electronic mail and word processing. Most of the series covered by this schedule were previously approved for disposal.

2. Department of Commerce, Office of Administrative Services (N1-40-01-5, 26 items, 25 temporary items). Records accumulated in the immediate Office of the Director and Management Support staff and in the Offices of Real Estate Policy and Programs, Administrative Operations, and Space and Building Management. Included are such records as program subject files, checkbook and parking permit databases, building delegations and lease files, personal property case files, electronic floor plans, building maintenance documents, and asbestos abatement and employee asbestos training files. Also included are electronic copies of records created using electronic mail and word processing. Proposed for permanent retention are historical photographs of the construction of the Herbert Clark Hoover Building in 1929 and early views of the building.

3. Department of Commerce, Technology Administration (N1-40-01-1, 23 items, 13 temporary items). Program subject correspondence of the Deputy Under Secretary, chronological files, fellowship program files, unsuccessful nominations for the National Medal of Technology, records relating to the Partnership for a New Generation of Vehicles program, copies of briefing books and publications, and working papers. Also included are electronic copies of records created using electronic mail and word processing. Proposed for permanent retention are recordkeeping copies of such files as the program correspondence of the Under Secretary for Technology, trip and speech files, minutes of meetings, program files of the Office of Technology Policy, the Air and Space Commercialization Office, and the Interagency Global Positioning Satellite Evaluation Board, and grant files of the Experimental Program to Stimulate Competitive Technology.

4. Department of Defense, Joint Staff and Combatant Commands (N1-218-00-5, 41 items, 25 temporary items). Records relating to information and legal matters, including correspondence, case files, background papers, drafts, transcripts, press releases, and minutes of meetings. Records pertain to such subjects as interaction with the White House and Congress, public relations, general legal matters, military justice, financial disclosures, and patent matters. Also included are electronic copies of documents created using electronic mail and word processing as well as electronic systems maintained at combatant commands that feed into systems maintained at higher levels. Recordkeeping copies of such files as substantive White House and Congressional correspondence, policy and procedures pertaining to public relations, speeches, public affairs releases, and precedent-setting legal opinions are proposed for permanent retention.

5. Department of Defense, Joint Staff and Combatant Commands (N1-218-00-8, 58 items, 43 temporary items). Records relating to communications and electronics matters, including correspondence, case files, background papers, drafts, transcripts, publications, and minutes of meetings. Records pertain to such matters as communications and electronic testing and equipment, frequency and spectrum management, networks and circuits, interoperability standards, cryptology, communication and message center operations, and satellite communications. Also included are electronic copies of documents created using electronic mail and word processing as well as electronic systems maintained at combatant commands that feed into systems maintained at higher levels. Recordkeeping copies of files pertaining to such subjects as the policies and procedures governing communications, electronics, frequency/spectrum management, cryptology, and satellite communications are proposed for permanent retention as are related publications.

6. Department of Defense, Defense Commissary Agency, (N1-506-02-1, 19 items, 19 temporary items). Records relating to the acquisition of supplies, equipment, and services through contracting and procurement activities. Included are such records as directives, contracting officer designations, advance planning files, program reviews, contract clause deviations, and status and inspection reports. Also included are electronic copies of documents created using electronic mail and word processing. This schedule authorizes the agency to apply the proposed disposition instructions to any recordkeeping medium.

7. Department of Defense, Defense Information Systems Agency (N1-371-02-2, 6 items, 6 temporary items). Year 2000 (Y2K) program records, including such records as reports, briefings, project plans, risk assessments, system identification criteria, and conversion strategies as well as files relating to administering the program. Also included are electronic copies of documents created using electronic mail and word processing.

8. Department of Energy, Agency-wide (N1-434-01-8, 10 items, 8 temporary items). Copies of internal publications, such as newsletters and bulletins, and records of national and international conferences and conventions that do not have historical significance and/or are accumulated by offices other than the sponsoring office. Also included are electronic copies of documents created using electronic mail and word processing. Proposed for permanent retention are recordkeeping copies of internal publications and files relating to significant conferences and conventions sponsored by the agency or its contractors.

9. Department of Housing and Urban Development, Office of Federal Housing Enterprise Oversight (N1-543-02-1, 25 items, 18 temporary items). Records accumulated by the Office of External Relations. Included are such files as mailing lists, Web site content records, and Web site management records. Proposed for permanent retention are recordkeeping copies of such files as annual reports to Congress, agency news releases, House Price Index publications, captioned photographs portraying significant agency events and personalities, public affairs videotapes, and speeches of the agency Director. Also included are electronic copies of documents created using electronic mail and word processing.

10. Department of Justice, Drug Enforcement Administration (N1-170-01-3, 12 items, 12 temporary items). Physical security files relating to measures taken for the protection of facilities. Included are such records as facilities survey and inspection files, pre-construction surveys, mid-construction surveys, and final acceptance files. Also included are correspondence, instructions, studies, messages, interpretations, and coordinating actions relating to the administration and operation of the physical security program as well as electronic copies of documents created using electronic mail and word processing.

11. Department of Labor, Occupational Safety and Health Administration (N1-100-02-1, 6 items, 4 temporary items). Electronic copies of records created using electronic mail and word processing relating to plans and policy decisions for the implementation of agency programs at the state level. Also included are extra copies of these records. Recordkeeping copies of these files are proposed for permanent retention.

12. Department of State, Bureau of Human Resources, N1-59-00-18, 32 items, 32 temporary items). Records relating to support services provided to Foreign Service Officers and civil service employees and their families. Included are such records as policy and procedures files, subject files, evacuation files, publications, and files that document the provision of information concerning available support services. Also included are electronic copies of documents created using electronic mail and word processing.

13. Department of State, Bureau of Human Resources (N1-59-00-9, 7 items, 7 temporary items). Records relating to hiring civil service employees, including position descriptions, applicant tracking systems, pre-appointment files, and files relating to the priority consideration of applicants. Also included are electronic copies of documents created using electronic mail and word processing.

14. Department of State, Bureau of Human Resources (N1-59-00-17, 9 items, 9 temporary items). Records relating to human resources planning, including class action lawsuit files, correspondence files, staffing statistical reports, and personnel planning studies. Also included are electronic copies of documents created using electronic mail and word processing.

15. Department of State, Bureau of Political and Military Affairs (N1-59-01-20, 16 items, 11 temporary items). Records relating to developing and implementing programs for the removal of mines for humanitarian purposes. Records include budget submissions, financial records, and funding allocation memorandums. Also included are electronic copies of documents created using electronic mail and word processing. Proposed for permanent retention are recordkeeping copies of chronological files, project files, policy and procedures files, interagency working group files, and a master set of publications.

16. Department of State, Bureau of Political and Military Affairs (N1-59-01-23, 10 items, 9 temporary items). Records relating to public and congressional affairs issues. Included are such records as chronological files, congressional inquiries, copies of legislative referral memorandums, and press guidance documents. Also included are electronic copies of documents created using electronic mail and word processing. Recordkeeping copies of briefing books prepared for senior officials are proposed for permanent retention.

17. Department of the Treasury, Bureau of Alcohol, Tobacco, and Firearms (N1-436-01-2, 7 items, 7 temporary items). Year 2000 (Y2K) conversion records. Included are such records as plans, lists of systems, risk assessments, contracts, and correspondence with vendors, Congress, the Office of Management and Budget, and the General Accounting Office. Also included are electronic copies of documents created using electronic mail and word processing.

18. Environmental Protection Agency, Office of Prevention, Pesticides, and Toxic Substances (N1-412-01-10, 3 items, 3 temporary items). Log books, registers, and other tracking records used to control and account for the receipt status, maintenance, or use of records that contain Toxic Control Substances Act confidential business information. Also included are electronic copies of documents created using electronic mail and word processing. Copies of these records that are placed in case files will be retained with the related case records in accordance with the previously approved disposition instruction for case files.

19. Federal Emergency Management Agency, Office of Financial Management (N1-311-01-3, 3 items, 1 temporary item). Electronic copies of records created using word processing and electronic mail that pertain to budget policy and budget estimates and justifications. Recordkeeping copies of these files are proposed for permanent retention.

20. National Archives and Records Administration, Office of General Counsel (N1-64-02-5, 5 items, 5 temporary items). Records relating to the agency's alternative dispute resolution program, including policy documents, case files, and administrative files. Also included are electronic copies of records created using electronic mail and word processing.

21. United States Commission for the Preservation of America's Heritage Abroad, Agency-wide (N1-220-02-8, 14 items, 8 temporary items). Commission members' files, constituent mail, staff files, reports and projects working papers, extra copies of publications, procurement records, and records related to the Commission's Web site. Also included are electronic copies of records created using electronic mail and word processing. Proposed for permanent retention are recordkeeping copies of Commission correspondence, meeting minutes and testimony, country files and agreements, Congressional and budget reports, and historical site reports. Also proposed for permanent retention is a Web site snapshot.

Dated: February 25, 2002.
Michael J. Kurtz,
Assistant Archivist for Record Services—Washington, DC.

[FR Doc. 02-5136 Filed 3-4-02; 8:45 am]

BILLING CODE 7515-01-P